DEPARTMENT OF JUSTICE

Notice of Lodging of Consent Decree Under the Clean Water Act

Notice is hereby given that on January 17, 2008, a proposed Consent Decree (“Massey Consent Decree”) in United States v. Massey Energy Company, et al., Civil Action No. 2:07-0299 was lodged with the United States District Court for the Southern District of West Virginia.

In this action the United States sought a civil penalty and injunctive relief against Massey Energy Company, et al. for illegal discharges of pollutants into waters of the United States from its coal mines in West Virginia and Kentucky and for violating the terms of their National Pollutant Discharge Elimination System Permits (“NPDES”). The Massey Consent Decree resolves the United States' claims against Massey Energy Company, A.T. Massey Coal Company, Massey Coal Services, Inc., and 25 of their subsidiaries (collectively “Defendants”) for violations of Sections 301 and 402 of the Clean Water Act, 33 U.S.C. 1311 and 1342. The settlement requires Defendants to pay a $20 million civil penalty and perform injunctive relief at all facilities for five years. This injunctive relief includes the implementation of a Discharge Monitoring Report tracking system, a protocol for responding to any future violations, internal and external audits of all treatment systems and facilities, the appointment of environmental managers responsible for environmental compliance, training on environmental compliance, independent third-party auditors to report annually to EPA on Defendants' compliance with the terms of the Consent Decree, and stipulated penalties for NPDES permit limit violations in the next five years. The settlement also requires Defendants to perform 20 remediation projects on the Little Coal River and execute conservation easements for 200 acres of stream buffer zone as additional injunctive relief.

The Department of Justice will receive for a period of thirty (30) days from the date of this publication comments relating to the Massey Consent Decree. Comments should be addressed to the Assistant Attorney General, Environment and Natural Resources Division, and either emailed to pubcomment-ees.enrd@usdoj.gov or mailed to P.O. Box 7611, U.S. Department of Justice, Washington, DC 20044-7611, and should refer to United States v. Massey Energy Company, et. al., D.J. Ref. 90-5-1-1-08470.

The Massey Consent Decree may be examined at the Office of the United States Attorney, 300 Virginia Street, East, Charleston, WV 25301, at U.S. EPA Region 3, 1650 Arch Street, Philadelphia, PA 19103, and at U.S. EPA Region 4, 61 Forsyth Street, SW, Atlanta, GA 30303. During the public comment period, the Massey Consent Decree, may also be examined on the following Department of Justice Web site, to http://www.usdoj.gov/enrd/Consent_Decrees.html. A copy of the Massey Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.75 (25 cents per page reproduction cost) payable to the U.S. Treasury or, if by e-mail or fax, forward a check in that amount to the Consent Decree Library at the stated address.

Robert Brook,
Assistant Section Chief, Environmental Enforcement Section, Environment and Natural Resources Division.

[FR Doc. 08-411 Filed 1-30-08; 8:45 am]

BILLING CODE 4410-15-M